DEPARTMENT OF EDUCATION

Office of Elementary and Secondary Education; Overview Information; William F. Goodling Even Start Family Literacy Programs—Grants for Federally Recognized Indian Tribes and Tribal Organizations

Notice inviting applications for new awards for fiscal year (FY) 2009.

Catalog of Federal Domestic Assistance (CFDA) Number: 84.258A.

DATES: Applications Available: March 9, 2009.

Deadline for Transmittal of Applications: May 4, 2009.

Full Text of Announcement

I. Funding Opportunity Description

Purpose of Program: The William F. Goodling Even Start Family Literacy Programs (Even Start), including the grants for Indian tribes and Tribal organizations, are intended to help break the cycle of poverty and illiteracy by improving the educational opportunities of low-income families by integrating early childhood education, adult literacy or adult basic education, and parenting education into a unified family literacy program. These programs are implemented through cooperative activities that: Build on high-quality existing community resources to create a new range of educational services; promote the academic achievement of children and adults; assist children and adults from low-income families in achieving challenging State content and student achievement standards; and use instructional programs based on scientifically based reading research and addressing the prevention of reading difficulties for children and adults, to the extent such research is available. A description of the required 15 program elements for which funds must be used is included in the application package.

Priorities: Under this competition we are particularly interested in applications that address the following priorities.

Invitational Priorities: For FY 2009 and any subsequent year in which we make awards from the list of unfunded applicants from this competition, these priorities are invitational priorities. Under 34 CFR 75.105(c)(1) we do not give an application that meets these invitational priorities a competitive or absolute preference over other applications.

These priorities are:

Invitational Priority 1—Intensity

Applications that propose to operate full-time programs of high intensity that offer a minimum of the following hours in each of the following four core instructional components:

• Adult Education—60 hours per month.

• Early Childhood Education (birth through 3 years of age)—60 hours per month.

• Early Childhood Education (3 to 4 years of age)—65 hours per month.

• Parenting Education and Interactive Literacy Activities between Parents and Children—20 hours per month.

Scientifically based research on increasing the effectiveness of early childhood education programs serving children from low-income families tells us that children who participate more intensively in early childhood education score higher on standardized literacy measures. For example, the Third National Even Start Evaluation: Program Impacts and Implications for Improvement showed that “children who participated more intensively in early childhood education scored higher on standardized literacy skills. Further, parents who participate more intensively in parenting education have children who score higher on standardized literacy measures.” \1\ In other words, children who spend more time in high-quality early childhood education programs learn more than children who spend less time in those programs. The purpose of this invitational priority is to encourage family literacy programs supported with Even Start funds to provide services that are of a sufficient intensity to maximize language and early literacy gains for children enrolled in those programs.¹

¹ Ricciuti, A.E., St. Pierre, R.G., Lee, W., Parsad, A. & Rimdzius, T. Third National Even Start Evaluation: Follow-Up Findings From the Experimental Design Study. U.S. Department of Education, Institute of Education Sciences, National Center for Education Evaluation and Regional Assistance. Washington, DC: 2004. p. 8-9.

Invitational Priority 2—Early Childhood Education Services in a Group Setting

Applications that propose to offer center-based early childhood education services.

The research in early childhood education, such as the Third National Even Start Evaluation, shows that educational services for young children that are provided in a center are more likely to be intensive and, therefore, more likely to result in significant learning outcomes than non-center-based services. A center is defined, for the purpose of this invitational priority, as a place where early childhood educational services can be provided to a group of children from multiple households. All center-based programs still must comply with the required program elements, including providing integrated home-based instructional programs.

Program Authority: 20 U.S.C. 6381a(a)(1)(C).

Applicable Regulations: The Education Department General Administrative Regulations (EDGAR) in 34 CFR parts 75, 77, 80, 81, 82, 84, 85, 86, 97, 98, and 99.

Note: The regulations in 34 CFR part 86 apply to institutions of higher education only.

II. Award Information

Type of Award: Discretionary grant.

Estimated Available Funds: $831,470 of FY 2008 funds are available for new awards in FY 2009.

Contingent upon the availability of funds and the quality of applications, we may make additional awards later in FY 2009 or in FY 2010 from the list of unfunded applicants from this competition.

Estimated Range of Awards: $150,000—$250,000 per year.

Estimated Average Size of Awards: $200,000 per year.

Estimated Number of Awards: 3-5.

Note: The Department is not bound by any estimates in this notice.

Project Period: Up to 48 months.

III. Eligibility Information

1. Eligible Applicants: Federally recognized Indian tribes and Tribal organizations. Definitions of the terms “Indian tribe” and “Tribal organization” are in section 4 of the Indian Self-Determination and Education Assistance Act, 25 U.S.C. 450b.

2. Cost Sharing or Matching: Cost sharing requirements for these grants are detailed in section 1234(b) of the Elementary and Secondary Education Act of 1965 (ESEA).

3. Other: (a) In general, a family is eligible to participate in an Even Start project for Indian tribes and Tribal organizations if—(1) the participating parent (a) is eligible to participate in adult education and literacy activities under the Adult Education and Family Literacy Act, or (b) is within the State's compulsory school attendance age range (in which case a local educational agency must provide or ensure the availability of the basic education component), or is attending secondary school; and (2) the participating child is younger than eight years of age. More specific information on family eligibility is contained in section 1236 of the ESEA.

(b) Participation by Private School Children and Teachers. An entity that receives a grant under the Even Start Family Literacy Program for Indian tribes and Tribal organizations is required to provide for the equitable participation of otherwise eligible private elementary school children and secondary school students and their teachers or other educational personnel. In order to ensure that grant program activities address the needs of private school children, the applicant must engage in timely and meaningful consultation with appropriate elementary and secondary private school officials during the design and development of the program. This consultation must take place before the applicant makes any decision that affects the opportunities of eligible private school children and students, teachers, and other educational personnel to participate. Administrative direction and control over grant funds must remain with the grantee. (See section 9501, Participation by Private School Children and Teachers, of the ESEA.)

IV. Application and Submission Information

1. Address to Request Application Package: You can obtain an application package via the Internet or from the Education Publications Center (ED Pubs). To obtain a copy via the Internet, use the following address: http://www.Grants.gov. To obtain a copy from ED Pubs, write, fax, or call the following: Education Publications Center, P.O. Box 1398, Jessup, MD 20794-1398. Telephone, toll free: 1-877-433-7827. Fax: (301) 470-1244. If you use a telecommunications device for the deaf (TDD), call, toll free: 1-877-576-7734.

You can contact ED Pubs at its Web site, also: http://www.ed.gov/pubs/edpubs.html or at its e-mail address: edpubs@inet.ed.gov.

If you request an application from ED Pubs, be sure to identify this program or competition as follows: CFDA number 84.258A.

Individuals with disabilities can obtain a copy of the application package in an accessible format (e.g., braille, large print, audiotape, or computer diskette) by contacting the program contact person listed under Accessible Format in section VIII of this notice.

2. Content and Form of Application Submission: Requirements concerning the content of the application, together with the forms you must submit, are in the application package for this competition.

Page Limit: The application narrative is where you, the applicant, address the selection criteria that reviewers use to evaluate your application. You must limit the application narrative to the equivalent of no more than 25 typed pages. You, the applicant, also provide a budget narrative that reviewers use to evaluate your application. You must limit the budget narrative to the equivalent of no more than 5 typed pages, and the project abstract to the equivalent of no more than 2 typed pages. For all page limits, use the following standards:

• A “page” is 8.5″ x 11″, on one side only, with 1” margins at the top, bottom, and both sides.

• Double space (no more than three lines per vertical inch) all text in the application and budget narratives, including titles, headings, footnotes, quotations, references, and captions. Text in tables, charts, graphs, and the limited Appendices may be single spaced.

• Use a font that is either 12-point or larger or no smaller than 10 pitch (characters per inch). You may use other point fonts for any tables, charts, graphs, and the limited Appendices, but those tables, charts, graphs, and limited Appendices should be in a font size that is easily readable by the reviewers of your application.

• Use one of the following fonts for the application and budget narratives: Times New Roman, Courier, Courier New, or Arial. An application with an application or budget narrative submitted in any other font (including Times Roman or Arial Narrow) will not be accepted.

• Other application materials are limited to the specific materials indicated in the application package, and may not include any video or other non-print materials.

The page limits do not apply to: The cover sheet; the budget forms; and the assurances and certifications.

Any tables, charts, or graphs are included in the overall application narrative and budget narrative page limits. The limited Appendices are not part of these page limits. Appendices are limited to the following: The curriculum vitae or position descriptions of no more than 5 people (including key contract personnel and consultants).

Our reviewers will not read any pages of your application that exceed the page limit; or exceed the equivalent of the page limit if you apply other standards.

In addition, our reviewers will not read or view any Appendices or enclosures (including non-print materials such as videotapes or CDs) other than those described in this notice and the application package.

3. Submission Dates and Times:

Applications Available: March 9, 2009.

Deadline for Transmittal of Applications: May 4, 2009.

Applications for grants under this competition must be submitted electronically using the Grants.gov Apply site (http://Grants.gov). For information (including dates and times) about how to submit your application electronically, or in paper format by mail or hand delivery if you qualify for an exception to the electronic submission requirement, please refer to section IV. 6. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

4. Intergovernmental Review: This competition is not subject to Executive Order 12372 and the regulations in 34 CFR part 79.

5. Funding Restrictions: Recipients of an Even Start Indian tribe and Tribal organization grant may not use funds awarded under this competition for the indirect costs of a project, or claim indirect costs as part of the local project share. (Section 1234(b)(3) of the ESEA.) Grant recipients may request that the Secretary waive this requirement under appropriate circumstances. To obtain a waiver, a recipient must demonstrate to the Secretary's satisfaction that the recipient otherwise would not be able to participate in the Even Start program. (Section 1234(b)(3) of the ESEA.) Information about requesting a waiver is in the application package. We reference regulations outlining additional funding restrictions in the Applicable Regulations section of this notice.

6. Other Submission Requirements:

Applications for grants under this competition must be submitted electronically unless you qualify for an exception to this requirement in accordance with the instructions in this section.

a. Electronic Submission of Applications

Applications for grants under the William F. Goodling Even Start Family Literacy Programs—Grants for Federally Recognized Indian Tribes and Tribal Organizations, CFDA Number 84.258A, must be submitted electronically using the Governmentwide Grants.gov Apply site at http://www.Grants.gov. Through this site, you will be able to download a copy of the application package, complete it offline, and then upload and submit your application. You may not e-mail an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for William F. Goodling Even Start Family Literacy Programs—Grants for Federally Recognized Indian Tribes and Tribal Organizations at http://www.Grants.gov. You must search for the downloadable application package for this competition by the CFDA number. Do not include the CFDA number's alpha suffix in your search (e.g., search for 84.258, not 84.258A).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov at http://e-Grants.ed.gov/help/GrantsgovSubmissionProcedures.pdf.

• To submit your application via Grants.gov, you must complete all steps in the Grants.gov registration process (see http://www.grants.gov/applicants/get_registered.jsp). These steps include (1) registering your organization, a multi-part process that includes registration with the Central Contractor Registry (CCR); (2) registering yourself as an Authorized Organization Representative (AOR); and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to submit successfully an application via Grants.gov. In addition you will need to update your CCR registration on an annual basis. This may take three or more business days to complete.

• You will not receive additional point value because you submit your application in electronic format, nor will we penalize you if you qualify for an exception to the electronic submission requirement, as described elsewhere in this section, and submit your application in paper format.

• You must submit all documents electronically, including all information you typically provide on the following forms: Application for Federal Assistance (SF 424), the Department of Education Supplemental Information for SF 424, Budget Information—Non-Construction Programs (ED 524), and all necessary assurances and certifications.

• You must attach any narrative sections of your application as files in a .DOC (document), .RTF (rich text), or .PDF (Portable Document) format. If you upload a file type other than the three file types specified in this paragraph or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Amber Sheker, U.S. Department of Education, 400 Maryland Avenue, SW., Room 3E252, Washington, DC 20202-6200. Telephone: (202) 205-0653. Fax: (202) 260-8969.

Your paper application must be submitted in accordance with the mail or hand delivery instructions described in this notice.

b. Submission of Paper Applications by Mail

If you qualify for an exception to the electronic submission requirement, you may mail (through the U.S. Postal Service or a commercial carrier) your application to the Department. You must mail the original and two copies of your application, on or before the application deadline date, to the Department at the following address: U.S. Department of Education, Application Control Center, Attention: (CFDA Number 84.258A), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you qualify for an exception to the electronic submission requirement, you (or a courier service) may deliver your paper application to the Department by hand. You must deliver the original and two copies of your application by hand, on or before the application deadline date, to the Department at the following address: U.S. Department of Education, Application Control Center, Attention: (CFDA Number 84.258A), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

Selection Criteria: The selection criteria for this competition are from sections 34 CFR 75.209 and 75.210 and are listed in the following paragraphs. The maximum score for each criterion is indicated after the title of the criterion. The maximum score for all of the selection criteria is 100 points.

(1) Quality of the Project Design (50 points). The Secretary considers the quality of the design of the proposed project. In determining the quality of the design of the proposed project, the Secretary considers the following factors:

(a) The extent to which the goals, objectives, and outcomes to be achieved by the proposed project are clearly specified and measurable. (34 CFR 75.210(c)(2)(i))

(b) The extent to which the proposed project represents an exceptional approach for meeting statutory purposes and requirements. (34 CFR 75.210(c)(2)(xiv))

Note: Under section 1235 of the ESEA, projects funded under this program must meet the following requirements:

(1) Include the identification and recruitment of families most in need of services provided under this program, as indicated by a low level of income, a low level of adult literacy or English language proficiency of the eligible parent or parents, and other need-related indicators;

(2) Include screening and preparation of parents, including teenage parents, and children to enable those parents and children to participate fully in the activities and services provided under this program, including testing, referral to necessary counseling, other developmental and support services, and related services;

(3) Be designed to accommodate the participants' work schedule and other responsibilities, including the provision of support services, when those services are unavailable from other sources, necessary for participation in the activities assisted under this program, such as—

(a) Scheduling and locating of services to allow joint participation by parents and children;

(b) Child care for the period that parents are involved in the program provided under this program; and

(c) Transportation for the purpose of enabling parents and their children to participate in activities authorized by this program;

(4) Include high-quality, intensive instructional programs that promote adult literacy and empower parents to support the educational growth of their children, developmentally appropriate early childhood educational services, and preparation of children for success in regular school programs;

(5) With respect to the qualifications of staff the cost of whose salaries are paid, in whole or in part, with Federal funds provided under the grant, ensure that—

(a)(i) A majority of the individuals providing academic instruction—

(I) Have obtained an associate's, bachelor's, or graduate degree in a field related to early childhood education, elementary school or secondary school education, or adult education; and

(II) If applicable, meet qualifications established by the State for early childhood education, elementary school or secondary school education, or adult education provided as part of an Even Start program or another family literacy program;

(ii) The individual responsible for administration of family literacy services carried out through the grant has received training in the operation of a family literacy program; and

(iii) Paraprofessionals who provide support for academic instruction have a secondary school diploma or its recognized equivalent; and

(b) All new personnel hired to provide academic instruction—

(i) Have obtained an associate's, bachelor's, or graduate degree in a field related to early childhood education, elementary school or secondary school education, or adult education; and

(ii) If applicable, meet qualifications established by the State for early childhood education, elementary school or secondary school education, or adult education provided as part of an Even Start program or another family literacy program;

(6) Include special training of staff, including child-care staff, to develop the skills necessary to work with parents and young children in the full range of instructional services offered through this program;

(7) Provide and monitor integrated instructional services to participating parents and children through home-based programs;

(8) Operate on a year-round basis, including the provision of some program services, including instructional and enrichment services, during the summer months;

(9) Be coordinated with—

(a) Other programs assisted under the ESEA;

(b) Any relevant programs under the Adult Education and Family Literacy Act, the Individuals with Disabilities Education Act, and title I of the Workforce Investment Act of 1998; and

(c) The Head Start program, volunteer literacy programs, and other relevant programs;

(10) Use instructional programs based on scientifically based reading research for children and adults, to the extent that research is available;

(11) Encourage participating families to attend regularly and to remain in the program a sufficient time to meet their program goals;

(12) Include reading-readiness activities for preschool children based on scientifically based reading research, to the extent available, to ensure that children enter school ready to learn to read;

(13) If applicable, promote the continuity of family literacy to ensure that individuals retain and improve their educational outcomes;

(14) Ensure that the programs will serve those families most in need of the activities and services provided by this program; and

(15) Provide for an independent evaluation of the program, to be used for program improvement.

(2) Quality of Project Services (20 points). The Secretary considers the quality of the services to be provided by the proposed project. In determining the quality of the services to be provided by the proposed project, the Secretary considers the quality and sufficiency of strategies for ensuring equal access and treatment for eligible project participants who are members of groups that have traditionally been underrepresented based on race, color, national origin, gender, age, or disability. (34 CFR 75.210(d)(2)) In addition, the Secretary considers the following factor: The likelihood that the services to be provided by the proposed project will lead to improvements in the achievement of students as measured against rigorous academic standards. (34 CFR 75.210(d)(3)(vii))

(3) Adequacy of Resources (15 points). The Secretary considers the adequacy of resources for the proposed project. In determining the adequacy of resources for the proposed project, the Secretary considers the following factors:

(a) The adequacy of support, including facilities, equipment, supplies, and other resources, from the applicant organization or the lead applicant organization. (34 CFR 75.210(f)(2)(i))

Note: Please note that section 1234(b)(1) of the ESEA requires grantees to provide an increasing local project share over the grant period (at least the following amounts: 10 percent in the first year, 20 percent in the second year. 30 percent in the third year, 40 percent in the fourth year, 50 percent in the fifth through eighth years, and 65 percent thereafter). The law also does not permit indirect costs to be included in the budget, either as a part of the Federal funding or for the local project's share or match, unless a project requests and qualifies for a waiver of that requirement under section 1234(b)(3) of the ESEA.

(b) The extent to which the costs are reasonable in relation to the objectives, design, and potential significance of the proposed project. (34 CFR 75.210(f)(2)(iv))

(4) Quality of the Management Plan (15 points). The Secretary considers the quality of the management plan for the proposed project. In determining the quality of the management plan for the proposed project, the Secretary considers the following factors:

(a) The adequacy of the management plan to achieve the objectives of the proposed project on time and within budget, including clearly defined responsibilities, timelines, and milestones for accomplishing project tasks. (34 CFR 75.210(g)(2)(i))

(b) The extent to which the time commitments of the project director and principal investigator and other key personnel are appropriate and adequate to meet the objectives of the proposed project. (34 CFR 75.210(g)(2)(iv))

Note: Grantees will be required to report annually on any project-specific performance measures that are included in the grantees' approved grant application, including the performance measures established for the Tribal Even Start Program under the Government Performance and Results Act (GPRA) and identified in section VI of this notice under the heading Performance Measures

.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: The Department has established the following Government Performance and Results Act of 1993 (GPRA) performance measures for the William F. Goodling Even Start Family Literacy Programs, including the Indian tribes and Tribal organizations grants:

(1) The percentage of Tribal Even Start adults who do not have limited English proficiency who achieve significant learning gains in reading;

(2) The percentage of Tribal Even Start adults with limited English proficiency who achieve significant learning gains in reading/English Language acquisition;

(3) The percentage of Tribal Even Start adults with a high school completion goal who earn a high school diploma;

(4) The percentage of Tribal Even Start adults with the goal of General Equivalency Diploma (GED) attainment who earn a GED;

(5) The percentage of preschool-aged children participating in Tribal Even Start programs who achieve significant gains in oral language skills;

(6) The average number of letters Tribal Even Start preschool-aged children are able to identify; and

(7) The percentage of preschool-aged children participating in Tribal Even Start programs who demonstrate age-appropriate oral language skills.

These measures constitute the Department's indicators of success for this program. Consequently, we advise an applicant for a grant under this program to give careful consideration to these measures in conceptualizing the approach and evaluation for its proposed project. Each grantee will be required to provide, in its annual performance and final reports, data about its progress in meeting these measures. The Department will provide further information on selecting valid, reliable, and program-appropriate assessment instruments on the Tribal Even Start Web site at http://www.ed.gov/programs/evenstartindian/applicant.html.

VII. Agency Contact

FOR FURTHER INFORMATION CONTACT: Amber Sheker, U.S. Department of Education, 400 Maryland Avenue, SW., Room 3E252, Washington, DC 20202-6200. Telephone: (202) 205-0653 or by e-mail: Amber.Sheker@ed.gov.

If you use a TDD, call the Federal Relay Service (FRS), toll free, at 1-800-877-8339.

VIII. Other Information

Accessible Format: Individuals with disabilities can obtain this document and a copy of the application package in an accessible format (e.g., braille, large print, audiotape, or computer diskette) on request to the program contact person listed under FOR FURTHER INFORMATION CONTACT in section VII of this notice.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Delegation of Authority: The Secretary of Education has delegated authority to Joseph C. Conaty, Director, Academic Improvement and Teacher Quality Programs for the Office of Elementary and Secondary Education to perform the functions of the Assistant Secretary for Elementary and Secondary Education.

Dated: March 4, 2009.
Joseph C. Conaty,
Director, Academic Improvement and Teacher Quality Programs.

[FR Doc. E9-4932 Filed 3-6-09; 8:45 am]

BILLING CODE 4000-01-P